DEPARTMENT OF THE TREASURY

Submission for OMB Review; Comment Request

August 14, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 24, 2001 to be assured of consideration.

Internal Revenue Service (IRS)

OMB Number: 1545-0203.

Form Number: IRS Form 5329.

Type of Review: Extension.

Title: Additional Taxes to IRAs, Other Qualified Retirement Plans, Annuities, Modified Endowment Contracts and MSAs.

Description: This form is used to compute and collect taxes related to early distributions from individual retirement arrangements (IRAs) and other qualified retirement plans; distributions from education (ED) IRAs not used for educational expenses; excess contributions to traditional IRAs, ED IRAs and medical savings accounts (MSAs); and excess accumulations in qualified retirement plans.

Respondents: Individuals or households.

Estimated Number of Respondents/Recordkeepers: 1,000,000.

Estimated Burden Hours Per Respondent/Recordkeeper:

Recordkeeping—2 hr., 5 min.

Learning about the law or the form—33 min.

Preparing the form—2 hr., 7 min.

Copying, assembling, and sending the form to the IRS—14 min.

Frequency of Response: On occasion.

Estimated Total Reporting/Recordkeeping Burden: 937,000 hours.

OMB Number: 1545-1032.

Form Number: IRS Form 8689.

Type of Review: Extension.

Title: Allocation of Individual Income Tax to the Virgin Islands.

Description: Form 8689 is used by U.S. citizens or residents as an attachment to Form 1040 when they have Virgin Islands source income. The data is used by IRS to verify the amount claimed on Form 1040 for taxes paid to the Virgin Islands.

Respondents: Individuals or households.

Estimated Number of Respondents/Recordkeepers: 800.

Estimated Burden Hours Per Respondent/Recordkeeper:

Recordkeeping—2 hr., 44 min.

Learning about the law or the form—19 min.

Preparing the form—1 hr., 1 min.

Copying, assembling, and sending the form to the IRS—20 min.

Frequency of Response: Annually.

Estimated Total Reporting/Recordkeeping Burden: 3,512 hours.

OMB Number: 1545-1141.

Notice Number: Notice 89-102.

Type of Review: Extension.

Title: Treatment of Acquisition of Certain Financial Institutions; Tax Consequences of Federal Financial Assistance.

Description: Section 597 of the Internal Revenue Code provides that the Secretary provide guidance concerning the tax consequences of Federal financial assistance received by qualifying institutions. These institutions may defer payment of Federal income tax attributable to the assistance. Required information identifies deferred tax liabilities.

Respondents: Business or other for-profit.

Estimated Number of Respondents: 250.

Estimated Burden Hours Per Respondent: 30 minutes.

Frequency of Response: Annually.

Estimated Total Reporting Burden: 125 hours.

OMB Number: 1545-1552.

Form Number: IRS Form 8839.

Type of Review: Extension.

Title: Qualified Adoption Expenses.

Description: Section 23 of the Internal Revenue Code allows taxpayers to claim a nonrefundable tax credit for qualified adoption expenses paid or incurred by the taxpayer. Code section 137 allows taxpayers to exclude amounts paid or expenses incurred by an employer for the qualified adoption expenses of the employee which are paid under an adoption assistance program. Form 8839 is used to figure the credit and/or exclusion.

Respondents: Individuals or households.

Estimated Number of Respondents/Recordkeepers: 27,271.

Estimated Burden Hours Per Respondent/Recordkeeper:

Recordkeeping—45 min.

Learning about the law or the form—17 min.

Preparing the form—1 hr., 49 min.

Copying, assembling, and sending the form to the IRS—34 min.

Frequency of Response: Annually.

Estimated Total Reporting/Recordkeeping Burden: 92,724 hours.

OMB Number: 1545-1619.

Form Number: IRS Form 8862.

Type of Review: Extension.

Title: Information to Claim Earned Income Credit After Disallowance.

Description: Section 32 of the Internal Revenue Code allows taxpayers as earned income credit (EIC) for each of their qualifying children. Section 32(k), as enacted by section 1085(a)(1) of P.L. 105-34, disallows the EIC for a statutory period if the taxpayer improperly claimed it in a prior year. Form 8862 helps taxpayers reestablish their eligibility to claim the EIC.

Respondents: Individuals or households.

Estimated Number of Respondents/Recordkeepers: 1,000,000.

Estimated Burden Hours Per Respondent/Recordkeeper:

Recordkeeping—52 min.

Learning about the law or the form—7 min.

Preparing the form—1 hr., 11 min.

Copying, assembling, and sending the form to the IRS—34 min.

Frequency of Response: Annually.

Estimated Total Reporting/Recordkeeping Burden: 2,760,000 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports Management Officer.

[FR Doc. 01-21233 Filed 8-22-01; 8:45 am]

BILLING CODE 4830-01-P